COMMODITY FUTURES TRADING COMMISSION

Notice of Sunshine Act Meetings

TIME AND DATE: 11 a.m., Friday, January 26, 2007.

PLACE: 1155 21st St., NW., Washington, DC, 9th Floor Commission Conference Room.

STATUS: Closed.

MATTERS TO BE CONSIDERED: Surveillance Matters.

Contact Person for More Information: Eileen A. Donovan, 202-418-5100.

Catherine D. Daniels,
Assistant Secretary of the Commission.

[FR Doc. 06-9798 Filed 12-18-06; 11:32 am]

BILLING CODE 6351-01-M